DEPARTMENT OF HEALTH AND HUMAN SERVICES

Performance Review Board Members

Title 5, U.S.C. Section 4314(c)(4) of the Civil Service Reform Act of 1978, Public Law 95-454, requires that the appointment of Performance Review Board Members be published in the Federal Register. The following persons may be named to serve on the Performance Review Boards or Panels, which oversee the evaluation of performance appraisals of Senior Executive Service members of the Department of Health and Human Services.

Employee Name

Barry, Daniel

Barlow, Amanda

Coughlin, Janis

Fantinato, Jessica

Gentile, John

Johnson, Jeffrey

Katz, Ruth

Kretschmaier, Michon

Lewis, Lisa

McDaniel, Eileen

Novy, Steve

Sample, Allen

Skeadas, Christos

Tobias, Constance

Weber, Mark

Dated: October 16, 2017.
Charles H. McEnerney III,
Director, Executive and Scientific Resources Division.

[FR Doc. 2017-22863 Filed 10-20-17; 8:45 am]

BILLING CODE 4151-17-P